DEPARTMENT OF AGRICULTURE

Animal and Plant Health Inspection Service

[Docket No. APHIS-2025-0023]

Notice of Request for Revision to and Extension of Approval of an Information Collection; Importation of Poultry Meat and Other Poultry Products From Sinaloa and Sonora, Mexico; Poultry and Pork Transiting the United States

AGENCY: Animal and Plant Health Inspection Service, USDA.

ACTION: Request for revision to and extension of approval of an information collection; comment request.

SUMMARY: In accordance with the Paperwork Reduction Act of 1995, this notice announces the Animal and Plant Health Inspection Service's intention to request a revision to and extension of approval of an information collection associated with the regulations for the importation of poultry meat and other poultry products from Sinaloa and Sonora and for pork and poultry products transiting the United States.

DATES: We will consider all comments that we receive on or before September 23, 2025.

ADDRESSES: You may submit comments by either of the following methods:

• Federal eRulemaking Portal: Go to http://www.regulations.gov/#!docketDetail;D=APHIS-2025-0023.

• Postal Mail/Commercial Delivery: Send your comment to Docket No. APHIS-2025-0023, Regulatory Analysis and Development, PPD, APHIS, 5601 Sunnyside Avenue, Beltsville, MD 20705.

Supporting documents and any comments we receive on this docket may be viewed at http://www.regulations.gov/#!docketDetail;D=APHIS-2025-0023 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the importation of poultry meat and other poultry products from Sinaloa and Sonora, Mexico; poultry and pork transiting the United States, contact Dr. Nathaniel J. Koval, VS, APHIS, 69 Thomas Johnson Drive, Frederick, MD, 21702, or at 301-851-3434. For more information on the information collection process, email APHIS.PRA@usda.gov.

SUPPLEMENTARY INFORMATION:

Title: Importation of Poultry Meat and Other Poultry Products From Sinaloa and Sonora, Mexico; Poultry and Pork Transiting the United States.

OMB Control Number: 0579-0144.

Type of Request: Revision to and extension of approval of an information collection.

Abstract: The Animal Health Protection Act is the primary Federal law governing the protection of animal health. The law gives the Secretary of Agriculture broad authority to detect, control, or eradicate pests or diseases of livestock or poultry. The Secretary may also prohibit or restrict the import or export of any animal or related material if necessary to prevent the spread of any livestock or poultry pest or disease.

Disease prevention is the most effective method for maintaining a healthy animal population and for enhancing the U.S. Department of Agriculture's Animal and Plant Health Inspection Service's (APHIS') ability to allow U.S. animal producers to compete in the world market of animal and animal product trade. APHIS is the agency charged with carrying out disease prevention by regulating the importation of animals and animal products into the United States. The regulations under which APHIS conducts these disease prevention activities are contained in 9 CFR parts 91 through 99. These regulations govern the importation of animals and animal products.

APHIS currently places certain restrictions on the importation and in-transit movement of fresh (chilled or frozen) pork and pork products from Mexico because of the presence of classical swine fever (CSF) in some areas of Mexico. However, the regulations in § 94.15 allow pork and pork products from certain Mexican States to transit the United States, under seal, for export to another country.

In addition, the regulations in § 94.6 provide the requirements for, among other things, the importation of poultry carcasses, parts, products, and eggs (other than hatching eggs) from regions where Newcastle disease (ND) is considered to exist. However, § 94.15 also allows poultry carcasses, parts, products, and eggs (other than hatching eggs) that do not qualify for entry into the United States to transit the United States via land ports, for immediate export, from Mexican States that Mexico considers to be free of ND.

APHIS believes that allowing such in-transit movements presents a negligible risk of introducing CSF or ND into the United States while simultaneously avoiding unnecessary restrictions on trade.

APHIS also currently has regulations in place that restrict the importation of poultry meat and other poultry products from Mexico due to the presence of ND in that country. However, under the regulations in § 94.30, APHIS allows the importation of poultry meat and poultry products from the Mexican States of Sinaloa and Sonora, if imported according to APHIS' requirements, because APHIS has determined that poultry meat and products from these two Mexican States pose a negligible risk of introducing ND into the United States.

To ensure these commodities are safe for importation, APHIS requires that certain information collection activities take place such as foreign meat inspection certificates, serially numbered seals, emergency action notification, and pre-arrival notifications.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average .999 hours per response.

Respondents: Federal animal health authorities in Mexico and U.S. importers and exporters of poultry meat, other poultry products, pork, and pork products from Mexico.

Estimated annual number of respondents: 69.

Estimated annual number of responses per respondent: 30.

Estimated annual number of responses: 2,097.

Estimated total annual burden on respondents: 2,095 hours. (Due to averaging, the total annual burden hours may not equal the product of the annual number of responses multiplied by the reporting burden per response.)

All responses to this notice will be summarized and included in the request for OMB approval. All comments will also become a matter of public record.

Done in Washington, DC, this 21st day of July 2025.
Michael Watson,
Administrator, Animal and Plant Health Inspection Service.

[FR Doc. 2025-14090 Filed 7-24-25; 8:45 am]

BILLING CODE 3410-34-P